DEPARTMENT OF COMMERCE

International Trade Administration

Notice of Scope Rulings

AGENCY: Import Administration, International Trade Administration, Department of Commerce.

EFFECTIVE DATE: September 20, 2005.

SUMMARY: The Department of Commerce (the Department) hereby publishes a list of scope rulings completed between April 1, 2005, and June 30, 2005. In conjunction with this list, the Department is also publishing a list of requests for scope rulings and anticircumvention determinations pending as of June 30, 2005. We intend to publish future lists after the close of the next calendar quarter.

FOR FURTHER INFORMATION CONTACT: Alice Gibbons, AD/CVD Operations, Office 2, Import Administration, International Trade Administration, U.S. Department of Commerce, 14th Street and Constitution Avenue, NW, Washington, DC 20230; telephone: (202) 482-0498.

SUPPLEMENTARY INFORMATION:

Background

The Department's regulations provide that the Secretary will publish in the Federal Register a list of scope rulings on a quarterly basis. See 19 CFR 351.225(o). Our most recent “Notice of Scope Rulings” was published on July 19, 2005. See 70 FR 41374. The instant notice covers all scope rulings and anticircumvention determinations completed by Import Administration between April 1, 2005, and June 30, 2005, inclusive. It also lists any scope or anticircumvention inquiries pending as of June 30, 2005, as well as scope rulings inadvertently omitted from prior published lists. As described below, subsequent lists will follow after the close of each calendar quarter.

Scope Rulings Completed Between April 1, 2005, and June 30, 2005:

Brazil

A-351-832; C-351-833: Carbon and Certain Alloy Steel Wire Rod from Brazil

Requestors: Companhia Siderugica Belgo Mineira Participacao Industria e Comercio S.A. and B.M.P. Siderugica S.A.; for grade 1080 tire cord quality wire rod and tire bead quality wire rod (1080 TCBQWR), the phrase “having no inclusions greater than 20 microns” means no inclusions greater than 20 microns in any direction; May 9, 2005.

India

A-533-810: Stainless Steel Bar from India; A-533-808: Stainless Steel Wire Rod from India

Requestor: Mukand International, Ltd.; stainless steel bar, manufactured in the United Arab Emirates out of stainless steel wire rod that is manufactured in India, is not included in the scope of the antidumping duty order; May 23, 2005.

Japan

A-588-824: Certain Corrosion-Resistant Carbon Steel Flat Products from Japan

Requestor: Metal One Corporation; diffusion-annealed nickel plate is within the scope of the anti-dumping duty order; August 26, 2005.

People's Republic of China

A-570-804: Petroleum Wax Candles from the People's Republic of China

Requestor: Target Corporation; a snowball candle (stock no. 08 0986) and set of snowball candles (stock no. 08 0959) are within the scope of the antidumping duty order; April 1, 2005.

A-570-804: Petroleum Wax Candles from the People's Republic of China

Requestor: Rokeach Foods; a “Yahrzeit” candle is within the scope of the antidumping duty order; April 15, 2005.

A-570-804: Petroleum Wax Candles from the People's Republic of China

Requestor: Crazy Mountain Imports, Inc., wax-filled ceramic containers with a single “snowman” or “snow-woman” figurine attached to the top of each container's lid with the words “Merry Christmas,” are included within the scope of the antidumping duty order; April 20, 2005.

A-570-804: Petroleum Wax Candles from the People's Republic of China

Requestor: Rokeach Foods; 44 Chanukah candles are within the scope of the antidumping duty order; April 29, 2005.

A-570-804: Petroleum Wax Candles from the People's Republic of China

Requestor: Access Business Group; one candle and five candle sets with various components are within the scope of the antidumping duty order; May 4, 2005.

A-570-804: Petroleum Wax Candles from the People's Republic of China

Requestor: New Spectrum Gift Gallery; seventy candles in various shapes are within the scope of the antidumping duty order. Thirty candles also in various shapes are not included in the scope of the antidumping duty order; May 12, 2005.

A-570-804: Petroleum Wax Candles from the People's Republic of China

Requestor: Home Interiors and Gifts; set of six “rose blossom” candles (item number 11538) and set of three “American heart” candles (item number 12117) are within the scope of the antidumping duty order. Three “sunflower” candles (item number 12116) and two sets of 12 “baked apple pie” and “vanilla” tea light candles (item numbers 11611 and 11612) are not included in the scope of the antidumping duty order; May 13, 2005.

A-570-504: Petroleum Wax Candles from the People's Republic of China

Requestor: Pier 1 Imports, Inc.; 12 models of candles are not included in the scope of the antidumping duty order (requestor removed one of the 13 candles from its original request); May 13, 2005.

A-570-803: Heavy Forged Hand Tools, Finished or Unfinished, With or Without Handles, from the People's Republic of China

Requestor: Olympia Group Inc.; cast tampers are not included in the scope of the antidumping duty order; May 23, 2005.

A-570-827: Cased Pencils from the People's Republic of China

Requestor: Fiskars Brands, Inc.; certain compasses are not included in the scope of the antidumping duty order; June 3, 2005.

A-570-891: Hand Trucks and Certain Parts Thereof from the People's Republic of China

Requestor: Central Purchasing, LLC; accessory carts are within the scope of the antidumping duty order; June 3, 2005.

A-570-891: Hand Trucks and Certain Parts Thereof from the People's Republic of China

Requestor: Faultless Starch/Bon Ami Co.; RuXXac and RuXXac Long hand trucks are within the scope of the antidumping duty order; June 3, 2005.

Russian Federation

A-821-819: Magnesium Metal From the Russian Federation

Requestor: Leeds Specialty Alloys; Mg-15Zr magnesium master alloy, made in the Russian Federation by Solikamsk Magnesium Works, is within the scope of the antidumping duty order; May 31, 2005.

Multiple Countries

A-570-886: Polyethylene Retail Carrier Bags from the People's Republic of China; A-557-813: Polyethylene Retail Carrier Bags from Malaysia; A-549-821: Polyethylene Retail Carrier Bags from Thailand

Requestor: Dimensions Trading, Inc.; polyethylene sample bags are within the scope of the antidumping duty order; May 9, 2005.

Anticircumvention Determinations Completed Between April 1, 2005, and June 30, 2005:

None.

Scope Inquiries Terminated Between April 1, 2005, and June 30, 2005:

None.

Scope Inquiries Pending as of June 30, 2005:

People's Republic of China

A-570-502: Iron Construction Castings from the People's Republic of China

Requestor: A.Y. McDonald Mfg. Co.; whether certain cast iron articles (meter box frames, covers, extension rings; meter box bases, upper bodies, lids), if imported separately, are within the scope of the antidumping duty order; requested November 16, 2004.

A-570-890: Wooden Bedroom Furniture from the People's Republic of China

Requestor: Dorel Asia; whether certain infant furniture (i.e., infant (baby) changing tables, toy boxes or chests, infant (baby) armories, and toddler beds) is within the scope of the antidumping duty order; requested February 15, 2005.

A-570-868: Folding Metal Tables and Chairs from the People's Republic of China

Requestor: Spencer Gifts LLC; whether “butterfly chairs” are within the scope of the antidumping duty order; requested March 21, 2005.

A-570-890: Wooden Bedroom Furniture from the People's Republic of China

Requestor: Sunrise Medical Inc.; whether long-term care patient room furniture is within the scope of the antidumping duty order; requested March 25, 2005.

A-570-868: Folding Metal Tables and Chairs from the People's Republic of China

Requestor: Korhani of America; whether its “wood-seated folding chair” is within the scope of the antidumping duty order; requested April 28, 2005.

A-570-803: Heavy Forged Hand Tools, Finished or Unfinished, With or Without Handles, from the People's Republic of China

Requestor: Avalanche Industries LLC; whether “Smart Splitter” is within the scope of the antidumping duty order; requested March 10, 2005; initiated May 12, 2005.

A-570-894: Certain Tissue Paper Products from the People's Republic of China

Requestor: Seaman Paper Company of Massachusetts, Inc. (MA); American Crepe Corporation (PA); Eagle Tissue LLC (CT); Flower City Tissue Mills Co. (NY); Garlock Printing &Converting, Inc. (MA); Paper Service Ltd. (NH); Putney Paper Co., Ltd. (VT); and the Paper, Allied-Industrial, Chemical and Energy Workers International Union AFL-CIO, CLC; whether certain tissue paper products are within the scope of the antidumping duty order when imported as part of a kit or set of goods that includes other non-subject items; requested June 7, 2005.

A-570-504: Petroleum Wax Candles from the People's Republic of China

Requestor: Kohl's Department Stores, Inc.; whether candles contained in a ceramic basket, which are in the shape of Easter eggs and painted with multiple Easter colors, are within the scope of the antidumping duty order; requested June 7, 2005.

Republic of Korea

C-580-851: Dynamic Random Access Memory Semiconductors from the Republic of Korea

Requestor: Cisco Systems, Inc.; whether removable memory modules placed on motherboards that are imported for repair or refurbishment are within the scope of the countervailing duty order; requested December 29, 2004; initiated February 4, 2005.

Russian Federation

A-821-802: Antidumping Suspension Agreement on Uranium

Requestor: USEC, Inc. and its subsidiary, United States Enrichment Corporation; whether enriched uranium located in Kazakhstan at the time of the dissolution of the Soviet Union is within the scope of the order; requested August 6, 1999.

Vietnam

A-552-801: Certain Frozen Fish Fillets From the Socialist Republic of Vietnam

Requestor: Piazza Seafood World LLC; whether certain basa and tra fillets from Cambodia which are a product of Vietnam are not included within the antidumping duty order; requested May 12, 2004; initiated October 22, 2004.

Anticircumvention Inquiries Pending as of June 30, 2005:

People's Republic of China

A-570-504: Petroleum Wax Candles from the People's Republic of China

Requestor: National Candle Association; whether imports of palm and vegetable-based wax candles from the PRC can be considered later-developed merchandise which is now circumventing the antidumping duty order; requested October 8, 2004; initiated February 25, 2005.

A-570-504: Petroleum Wax Candles from the People's Republic of China

Requestor: National Candle Association; whether imports of palm and vegetable-based wax candles from the PRC can be considered a minor alteration to the subject merchandise for purposes of circumventing the antidumping duty order; requested October 12, 2004; initiated February 25, 2005.

Vietnam

A-552-801: Certain Frozen Fish Fillets From the Socialist Republic of Vietnam

Requestor: Catfish Farmers of America and certain individual U.S. catfish processors; whether imports of frozen fish fillets from Cambodia made from live fish sourced from Vietnam, and falling within the scope of the order, can be considered “merchandise completed or assembled in other foreign countries” and are circumventing the antidumping duty order; requested August 20, 2004; initiated October 22, 2004.

Scope Rulings Inadvertently Omitted from Prior Published Lists:

A-570-803: Heavy Forged Hand Tools, Finished or Unfinished, With or Without Handles, from the People's Republic of China

Requestor: Olympia Group Inc.; whether pry bars, with a bar length under 18 inches, are within the scope of the antidumping duty order; initiated December 20, 2004; terminated due to lack of information on March 7, 2005.

Interested parties are invited to comment on the completeness of this list of pending scope and anti-circumvention inquiries. Any comments should be submitted to the Deputy Assistant Secretary for AD/CVD Operations, Import Administration, International Trade Administration, 14th Street and Constitution Avenue, NW, Room 1870, Washington, DC 20230.

This notice is published in accordance with 19 CFR 351.225(o) of the Department's regulations.

Dated: September 14, 2005.
Barbara E. Tillman,
Acting Deputy Assistant Secretary for Import Administration.

[FR Doc. 05-18712 Filed 9-19-05; 8:45 am]

BILLING CODE 3510-DS-S